DEPARTMENT OF LABOR

Employment and Training Administration

[TA-W-39,394]

Pittsburgh Gear Works, Inc., Pittsburgh, PA; Dismissal of Application for Reconsideration

Pursuant to 29 CFR 90.18(C) an application for administrative reconsideration was filed with the Director of the Division of Trade Adjustment Assistance for workers at Pittsburgh Gear Works, Inc., Pittsburgh, Pennsylvania. The application contained no new substantial information which could bear importantly on the Department's determination. Therefore, dismissal of the application was issued.

TA-W-39,394; Pittsburgh Gear Works, Inc., Pittsburgh, Pennsylvania (February 28, 2002)

Signed at Washington, DC this 1st day of March, 2002.
Edward A. Tomchick,
Director, Division of Trade Adjustment Assistance.

[FR Doc. 02-5575 Filed 3-7-02; 8:45 am]

BILLING CODE 4510-30-M